FEDERAL COMMUNICATIONS COMMISSION

47 CFR Part 73

[MM Docket Nos. 01-229 and 01-231; Report No. 2994]

Petition for Reconsideration of Action in Rulemaking Proceeding

AGENCY: Federal Communications Commission.

ACTION: Petition for reconsideration.

SUMMARY: A Petition for Reconsideration has been filed in the Commission's Rulemaking proceedings by Edward Czelada.

DATES: Oppositions to the Petition must be filed on or before March 14, 2014. Replies to an opposition must be filed on or before March 24, 2014.

ADDRESSES: Federal Communications Commission, 445 12th Street SW., Washington, DC 20554.

FOR FURTHER INFORMATION CONTACT: Andrew J. Rhodes, 202-418-2700.

SUPPLEMENTARY INFORMATION: This is a summary of Commission's document, Report No. 2994, released December 19, 2013. The full text of Report No. 2994 is available for viewing and copying in Room CY-B402, 445 12th Street SW., Washington, DC or may be purchased from the Commission's copy contractor, Best Copy and Printing, Inc. (BCPI) (1-800-378-3160).

Subject: In the Matter of Amendment of Section 73.202(b), Table of Allotments, FM Broadcast Stations (Caseville and Pigeon, Michigan) (MM Docket No. 01-229).

In the Matter of Amendment of Section 73.202(b), Table of Allotments, FM Broadcast Stations (Harbor Beach and Lexington, Michigan) (MM Docket No. 01-231).

Number of Petitions Filed: 1.

Federal Communications Commission.
Marlene H. Dortch,
Secretary, Office of the Secretary, Office of Managing Director.

[FR Doc. 2014-04325 Filed 2-26-14; 8:45 am]

BILLING CODE 6712-01-P